DEPARTMENT OF LABOR

Employment and Training Administration

[TA-W-71,582]

Eastman Kodak Company, Rochester, NY; Notice of Termination of Investigation

Pursuant to Section 223 of the Trade Act of 1974, as amended, an investigation was initiated in response to a worker petition filed on July 8, 2009 on behalf of workers of Eastman Kodak Company, Rochester, New York.

The petitioning group of workers is covered by an earlier petition (TA-W-71,479) filed on June 30, 2009 that is the subject of an ongoing investigation for which a determination has not yet been issued. Further investigation in this case would duplicate efforts and serve no purpose; therefore the investigation under this petition has been terminated.

Signed at Washington, DC, this 27th day of July 2009.
Richard Church,
Certifying Officer, Division of Trade Adjustment Assistance.

[FR Doc. E9-20468 Filed 8-25-09; 8:45 am]

BILLING CODE 4510-FN-P